FEDERAL COMMUNICATIONS COMMISSION

FCC To Hold Open Commission Meeting Thursday, May 21, 2015

May 14, 2015.

The Federal Communications Commission will hold an Open Meeting on the subjects listed below on Thursday, May 21, 2015. The meeting is scheduled to commence at 10:30 a.m. in Room TW-C305, at 445 12th Street SW., Washington, DC.

Item No. | Bureau | Subject
1 | CONSUMER & GOVERNMENTAL AFFAIRS | TITLE: Implementation of the Twenty-First Century Communications and Video Accessibility Act of 2010, Section 105, Relay Services for Deaf-Blind Individuals (CC Docket No. 10-210).
|  | SUMMARY: The Commission will consider an Order to extend the National Deaf-Blind Equipment Distribution Program and a Notice of Proposed Rulemaking to permanently extend the program. The program provides up to $10 million annually from the Interstate Telecommunications Relay Service Fund to support programs that distribute communications equipment to low-income individuals who are deaf-blind.
2 | MEDIA | TITLE: Accessible Emergency Information, and Apparatus Requirements for Emergency Information and Video Description: Implementation of the Twenty-First Century Communications and Video Accessibility Act of 2010 (MB Docket No. 12-107).
|  | SUMMARY: The Commission will consider a Second Report and Order and Second Further Notice of Proposed Rulemaking to extend accessibility rules for emergency alerts to “second screens,” including tablets, smartphones, laptops, and similar devices. The proposal would take additional steps to make emergency information in video programming accessible to individuals who are blind or visually impaired.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from Meribeth McCarrick, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2015-12364 Filed 5-21-15; 8:45 am]

BILLING CODE 6712-01-P